FEDERAL ENERGY REGULATORY COMMISSION

[Project No. 8615-047]

Fiske Hydro, Inc.; Notice Soliciting Pre-Application Documents and Notices of Intent To File a Subsequent License Application

On November 30, 2020, Fiske Hydro, Inc. (Fiske Hydro), the current licensee for the Fiske Mill Hydroelectric Project No. 8615 (project), filed a Notice of Intent (NOI) to file an application for an exemption from licensing for the project.¹ The existing license for the project expires on November 30, 2025.² On September 20, 2023, Fiske Hydro filed an application to surrender its license for the project.³

¹ 18 CFR 16.19(b) (2022).

² The license for the project was issued with an effective date of December 1, 1985, for a term of 40 years. Fiske Hydro Inc., 33 FERC ¶ 62,299 (1985).

³ The surrender application filing may be viewed at https://elibrary.ferc.gov/eLibrary/filedownload?fileid=E18CC70E-85D5-C3FB-9C8C-8AB7E1600000. The Commission is not seeking public comment on the surrender application at this time.

Pursuant to section 16.20 of the Commission's regulations, an existing licensee with a minor license not subject to sections 14 and 15 of the Federal Power Act must file an application for a subsequent license or exemption at least 24 months prior to the expiration of the current license, which with respect to the Fiske Mill Project, was November 30, 2023.⁴

⁴ 18 CFR 16.20(c) (2022).

Pursuant to section 16.25(a) of the Commission's regulations, when an existing licensee, having previously filed an NOI to file an application for an exemption subsequently does not file an application, the Commission must solicit applications from potential applicants other than the existing licensee.⁵ Any party interested in filing an application for the project must file an NOI document within 90 days from the date of this notice.⁶ In addition, NOIs for a subsequent license must also include a pre-application document (PAD). Moreover, while the integrated licensing process is the default process for preparing an application for a subsequent license, a potential applicant for a subsequent license may include with the NOI and PAD a request to use alternative licensing procedures.⁷ An application for the Fiske Mill Hydroelectric Project No. 8615 must be filed within 18 months of the date of filing the NOI.

⁵ 18 CFR 16.25(a) (2022).

⁶ Pursuant to section 16.24(b)(2) of the Commission's regulations, the existing licensee, Fiske Hydro, Inc., is prohibited from filing an application for the project, either individually or in conjunction with other entities. 18 CFR 16.24(b)(2) (2022).

⁷ 18 CFR 5.3(b) (2022).

Questions concerning the process for filing an NOI should be directed to Robert Haltner at 202-502-8612 or robert.haltner@ferc.gov.

Dated: December 8, 2023.
Kimberly D. Bose,
Secretary.

[FR Doc. 2023-27520 Filed 12-14-23; 8:45 am]

BILLING CODE 6717-01-P